DEPARTMENT OF THE INTERIOR

Bureau of Land Management

[NV-010-1990-EX]

Notice of Availability of the Final Environmental Impact Statement; South Operations Area Project Amendment, Eureka Co., NV

AGENCY: Bureau of Land Management, Interior.

ACTION: Notice of availability of the Final Environmental Impact Statement; South Operations Area Project Amendment, Eureka Co., NV.

SUMMARY: Pursuant to section 102(2)(c) of the National Environmental Policy Act of 1969, notice is given that the Elko Field Office of the Bureau of Land Management (BLM) has prepared, by third party contractor, a Final Environmental Impact Statement on Newmont Mining Corporation's South Operations Area Project Amendment, located in Eureka County, Nevada.

EFFECTIVE DATES: The Final Environmental Impact Statement will be distributed and made available to the public on April 26, 2002. The period of availability for public review for the Final Environmental Impact Statement ends May 28, 2002. At that time a Record of Decision will be issued regarding the Proposed Action.

ADDRESSES: A copy of the Final Environmental Impact Statement can be obtained from: Bureau of Land Management, Elko Field Office, 3900 Idaho Street, Elko, Nevada 89801. The Final Environmental Impact Statement may also be downloaded from the Elko Field Office internet site at www.nv.blm.gov/elko.

FOR FURTHER INFORMATION CONTACT: Roger D. Congdon, Project Manager, at the above Elko Field Office address or telephone (775) 753-0200.

SUPPLEMENTARY INFORMATION: A full text Final Environmental Impact Statement has been produced which presents in its entirety the analysis originally included in the Draft Environmental Impact Statement (issued September 1, 2000). The Final Environmental Impact Statement analyzes the direct, indirect and cumulative impacts related to expansion of existing mine facilities (continued mining of the Gold Quarry Mine; expansion of the Gold Quarry North, Gold Quarry South, and James Creek waste rock disposal facilities; expansion of the South Area Leach facility; expansion of the Refractory Leach facility; and construction of ancillary facilities). On-going expansion and further development of this deposit includes continued dewatering of the Gold Quarry pit area for the life of the project.

Alternatives analyzed include the Proposed Action, No Action, Proposed Action with backfill of the Mac pit, and Proposed Action with modified waste rock disposal facilities. The Bureau of Land Management's preferred alternative is the Proposed Action as described in the Final Environmental Impact Statement. The Final Environmental Impact Statement also includes changes and additions to the 1993 South Operations Area Project Mitigation Plan, and responses to comments received on the Draft Environmental Impact Statement during the public scoping period.

Robert V. Abbey,
State Director, Nevada.

[FR Doc. 02-9872 Filed 4-25-02; 8:45 am]

BILLING CODE 4310-HC-P